DEPARTMENT OF TRANSPORTATION

Federal Railroad Administration

Environmental Impact Statement for the Baltimore & Potomac (B&P) Tunnel Project Along the Northeast Corridor (NEC) in Baltimore, MD

AGENCY: Federal Railroad Administration (FRA), Department of Transportation (DOT).

ACTION: Notice of Intent to Prepare an Environmental Impact Statement (EIS).

SUMMARY: FRA is issuing this notice to advise the public that an EIS for the B&P Tunnel Project (Project) is being prepared pursuant to the National Environmental Policy Act of 1969 (NEPA). The Project is intended to address transportation deficiencies associated with the existing rail tunnel and is located on the NEC in the area of Baltimore that surrounds the existing B&P Tunnel. The EIS will evaluate the potential environmental impacts of alternatives that address transportation deficiencies.

To ensure significant issues are identified and considered, the public and all interested parties are invited to comment on the proposed scope of environmental review, the project purpose and need, alternatives to be considered, environmental effects to be considered and evaluated, and methodologies to be used for evaluating effects.

DATES: An open house for the public will be held on Thursday, June 19, 2014, between 5:00 p.m. and 8:00 p.m. Written comments should be provided to FRA by July 30, 2014 using the email address or physical mailing address listed below. Comments may also be provided orally or in writing at the June 19, 2014 public meeting.

ADDRESSES: The public and other interested parties are encouraged to comment on-line at the B&P Tunnel Project's Web site (www.bptunnel.com), via email at info@bptunnel.com, in person or by hard copy during the June 19, 2014 public meeting at Coppin State University, Talon Center, 2nd floor Atrium, 2500 West North Avenue, Baltimore, MD 21216 or by mailing hard copy comments to the FOR FURTHER INFORMATION CONTACT noted below.

FOR FURTHER INFORMATION CONTACT: Michelle W. Fishburne, Environmental Protection Specialist, USDOT Federal Railroad Administration, Office of Program Delivery, 1200 New Jersey Avenue SE., MS-20, Washington, DC 20590; (202) 294-0398.

SUPPLEMENTARY INFORMATION: The Maryland Department of Transportation (MDOT) in cooperation with the National Railroad Passenger Corporation (Amtrak) was awarded a grant from FRA to complete an engineering and environmental study (Study) for the B&P Tunnel as part of the High-Speed Intercity Passenger Rail (HSIPR) Program. The B&P Tunnel opened in 1873 and is approaching the end of its useful life. The tunnel currently serves Amtrak passenger rail and Maryland Commuter Rail (MARC) trains, as well as Norfolk Southern freight trains. The purpose of the Study is to develop and evaluate alternatives that would improve the deficient tunnel and related rail infrastructure, which significantly hampers train movement and creates a low-speed bottleneck on this high traffic section of the NEC. The area for the Study includes the existing B&P Tunnel in Central Baltimore and will encompass an area needed to identify potential alternatives and the evaluation of potential environmental effects.

FRA as the lead federal agency will be responsible for the environmental review of alternatives and the EIS process in coordination with MDOT as the grantee, Amtrak as the owner of the B&P Tunnel, and other stakeholders. The EIS will evaluate alternatives based on project needs, potential environmental impacts, and input received from the public and all interested parties. The EIS will be developed in accordance with the National Environmental Policy Act of 1969 (NEPA) (42 U.S.C. 4321 et. seq.), the Council on Environmental Quality (CEQ) regulations (40 CFR parts 1500-1508), FRA Procedures for Considering Environmental Impacts (64 Federal Register [FR] 28545, [May 26, 1999]), and FRA's Update to NEPA Implementing Procedures (78 FR 2713, [January 14, 2013]).

Purpose and Need

The B&P Tunnel is important not only for Baltimore, but also the NEC, which connects the five major metropolitan areas of Boston, New York, Philadelphia, Baltimore and Washington, DC. The NEC is the most active passenger rail corridor in the nation and carries intercity passenger, commuter, and freight trains. FRA is preparing NEC FUTURE: A Rail Investment Plan for the Northeast Corridor, which is a comprehensive planning effort to define, evaluate and prioritize future investments in the NEC and is available at www.necfuture.com.

Amtrak and MARC operate approximately 140 daily passenger trains through the B&P Tunnel, including Acela Express and Northeast Regional service. As intercity travel demand increases within the region, there will be additional need for passenger service on the NEC. The potential for future high speed rail on the NEC is also an important consideration for improvements to the B&P Tunnel, as well as support of freight service. The B&P Tunnel hosts approximately 5 to 10 through-freight trains daily, serving ports in Baltimore.

The B&P Tunnel is comprised of a series of three sequential, two-track tunnels: The John Street Tunnel, the Wilson Street Tunnel, and the Gilmor Street Tunnel. According to the NEC Infrastructure and Operations Advisory Commission's report, Critical Infrastructure Needs on the Northeast Corridor (2013), the B&P Tunnel's tight curvature and aged structural conditions limit train speeds to 30 mph (down from 60 mph or higher on its approach tracks).

Previous studies and plans examined the broader railroad network and identified the B&P Tunnel as a primary chokepoint in Baltimore. In November 2001, Congress requested that FRA conduct a comprehensive study to assess problems in the freight and passenger rail infrastructure in the vicinity of Baltimore, Maryland. The study comprised two reports: Baltimore's Railroad Network: Challenges and Alternatives (2005) and Baltimore's Railway Network: Analysis and Recommendations (2011). The 2005 and 2011 reports assessed Baltimore's railroad network, identified the need to improve deficient track geometry and tunnel conditions, and reviewed multiple alternatives associated with the B&P Tunnel. The Northeast Corridor Infrastructure Master Plan (2010), prepared by the NEC Master Plan Working Group, states that the B&P Tunnel has exceeded its useful life and is a major chokepoint for intercity, commuter, and freight operations in the northeast. The 2005 and 2011 reports and the 2010 Master Plan are available on the project Web site at www.bptunnel.com. Additional need elements for the project will be documented and evaluated as part of the NEPA process.

Alternatives To Be Considered

Alternatives will be developed based on the purpose of and need for the project, information obtained through the scoping process, and previous reports. The EIS will consider a range of reasonable alternatives based on the need to improve capacity and travel time through the corridor, improve reliability, and maintain safety for commuter, freight and intercity passenger rail services on the NEC. Alternatives will include the No Action Alternative as well as Build Alternatives such as rehabilitation of the existing tunnel and a new tunnel at a different location.

Possible Effects

FRA in coordination with MDOT will evaluate direct, indirect, and cumulative changes to the human and natural environment resulting from the alternatives, including: Land use and socioeconomics, Environmental Justice, public safety, cultural resources, recreational resources, ecological resources (including terrestrial and aquatic habitat and species), wetland areas, water quality, flood hazards and floodplain management, hazardous contamination, transportation, construction issues, air quality, noise and vibration, and aesthetics. The analysis and environmental review will be documented in the EIS consistent with NEPA, CEQ regulations, Section 106 of the NHPA, the Endangered Species Act, the Clean Air Act, the Clean Water Act, FRA Environmental Procedures, Executive Order 12898 and USDOT Order 5610.2(a) on Environmental Justice, and Section 4(f) of the USDOT Act of 1966, along with other applicable Federal and State regulations.

Scoping Process

The FRA and MDOT are inviting comments and suggestions from the public and all interested parties regarding the scope of the EIS to ensure that all relevant issues, applicable planning efforts, constraints, and reasonable alternatives are addressed in the EIS. FRA and MDOT will directly contact appropriate Federal, State, and local agencies, Native American tribes and private organizations that have previously expressed or that are known to have an interest in this Project.

Public meetings, open houses, and other public involvement initiatives, including newsletters and outreach, will be held and used throughout the course of this Study. Dates, times and locations for the scoping meetings and other opportunities for public participation will be announced on the B&P Tunnel Project's Web site (www.bptunnel.com) and through mailings, public notices, advertisements and press releases.

Comments will be accepted on the scope of the EIS at the public meeting, through the project Web site (www.bptunnel.com) and by submitting written comments to Michelle Fishburne according to FOR FURTHER INFORMATION CONTACT above. The formal comment period for scoping will be as described in DATES above.

Authority: National Environmental Policy Act of 1969 (NEPA) (42 U.S.C. 4321 et. seq.)

Issued in Washington, DC, on June 4, 2014.
Corey W. Hill,
Director, Office of Program Delivery.

[FR Doc. 2014-13318 Filed 6-6-14; 8:45 am]

BILLING CODE 4910-06-P